DEPARTMENT OF ENERGY

Federal Energy Regulatory Commission

[Project No. 7153-018]

Consolidated Hydro New York, LLC; Notice of Scoping Meetings and Environmental Site Review and Soliciting Scoping Comments

Take notice that the following hydroelectric application has been filed with the Commission and is available for public inspection.

a. Type of Application: New Major License.

b. Project No.: 7153-018.

c. Date filed: April 29, 2022.

d. Applicant: Consolidated Hydro New York, LLC.

e. Name of Project: Victory Mills Hydroelectric Project (Victory Mills Project or project).

f. Location: On Fish Creek in Saratoga County in the Village of Victory, New York.

g. Filed Pursuant to: Federal Power Act, 16 U.S.C. 791(a)-825(r).

h. Applicant Contact: Curtis Mooney, Manager, Regulatory Affairs, Patriot Hydro, LLC, 59 Ayers Island Road, Bristol, NH 03222, (603) 744-0846, or, Kevin Webb, Hydro Licensing Manager, Patriot Hydro, LLC, 670 N Commercial Street, Suite 204, Manchester, NH 03101, (603) 623-8222.

i. FERC Contact: Jacob Harrell, jacob.harrell@ferc.gov, (202) 502-7313.

j. Deadline for filing scoping comments: May 30, 2024.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, please send a paper copy via U.S. Postal Service to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Victory Mills Hydroelectric Project (P-7153-018).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The Victory Mills Project consists of: (1) a dam that includes: (a) an approximately 150-foot-long concrete spillway varying in height from 4 to 6 feet with a crest elevation of 187.5 feet National Geodetic Vertical Datum of 1929 (NGVD29), and (b) a sluice gate section approximately 19 feet high and 40 feet long with four gated spillway bays, each with a sill elevation of 181 feet NGVD29 and containing a 7-foot-high by 8-foot-wide wooden timber gate; (2) a 4.3-acre reservoir with a gross storage capacity of approximately 18 acre-feet at the normal surface elevation of 187.5 feet NGVD29; (3) an intake channel feeding a 51-foot-long, 25-foot-high concrete intake structure; (4) an 8-foot-diameter, 300-foot-long steel penstock; (5) a 27-foot by 46-foot concrete powerhouse containing a single turbine-generator unit with an installed capacity of 1,656 kilowatts; (6) an approximately 30-foot-wide by 530-foot-long tailrace channel; (7) a 90-foot-long generator lead extending through the powerhouse to a transformer and then a 100-foot-long underground and a 20-foot-long aerial, 4.16-kilovolt transmission line to the point of interconnection; and (8) appurtenant facilities. There are no recreation facilities at the project. An average of 6,073 MWh is generated at the project annually.

The Victory Mills Project operates as a run-of-river facility with no storage or flood control capacity. A continuous minimum bypassed reach flow of 36 cubic feet per second (cfs), or inflow, whichever is less, is maintained through operation of a sluice gate at the dam. The minimum hydraulic capacity for operating the turbine unit is 60 cfs, therefore, the minimum river flow needed for project operation is 96 cfs (36 cfs plus 60 cfs). When inflow at the project is less than 96 cfs, river flows are allowed to pass downstream through the bypassed reach. When the inflow exceeds the maximum hydraulic capacity of the project at 590 cfs, the impoundment level is permitted to rise over the spillway.

m. Copies of the application can be viewed on the Commission's website at https://www.ferc.gov, using the “eLibrary” link. Enter the project's docket number, excluding the last three digits in the docket number field, to access the document. For assistance, contact FERC Online Support.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or at OPP@ferc.gov.

n. Scoping Process

Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

Scoping Meetings

Commission staff will hold two public scoping meetings and an environmental site review in the vicinity of the project to receive input on the scope of the NEPA document. An evening meeting will focus on receiving input from the public and a daytime meeting will focus on the concerns of resource agencies, non-governmental organizations (NGOs), and Indian Tribes. We invite all interested agencies, Indian Tribes, NGOs, and individuals to attend one or both meetings. The times and locations of these meetings are as follows:

Evening Scoping Meeting

Date: Monday, April 29, 2024

Time: 7:00 p.m. EDT

Place: Village of Victory Town Hall

Address: 23 Pine Street, Victory Mills, NY 12884

Daytime Scoping Meeting

Date: Tuesday, April 30, 2024

Time: 9:00 a.m. EDT

Place: Village of Victory Town Hall

Address: 23 Pine Street, Victory Mills, NY 12884

Copies of the Scoping Document (SD1) outlining the subject areas to be addressed in the NEPA document were distributed to the parties on the Commission's mailing list. Copies of the SD1 will be available at the scoping meeting or may be viewed on the web at http://www.ferc.gov using the “eLibrary” link (see item m above).

Environmental Site Review

The applicant and Commission staff will conduct an environmental site review of the project. All interested individuals, agencies, Indian Tribes, and NGOs are invited to attend. All participants are responsible for their own transportation to the site. Please RSVP via email to Miley Kinney at Mkinney@patriothydro.com or by phone at (603) 732-8162 by April 19, 2024, if you plan to attend the environmental site review. The time and location of the environmental site review is as follows:

Date: Tuesday, April 30, 2024

Time: 1:00 p.m. EDT

Place: Village of Victory Town Hall

Address: 23 Pine Street, Victory Mills, NY 12884

All persons attending the environmental site review must adhere to the following requirements: (1) all persons must wear sturdy, closed-toe shoes or boots; (2) persons with open-toed shoes/sandals/flip flops/high heels, etc. will not be allowed on the environmental site review; (3) persons must be 18 years or older; (4) no photography will be allowed inside the powerhouse; (5) no weapons are allowed on-site; (6) no alcohol/drugs are allowed on-site (or persons exhibiting the effects thereof); and (7) no animals (except for service animals) are allowed on the environmental site review.

Objectives

At the scoping meetings, Commission staff will: (1) summarize the environmental issues tentatively identified for analysis in the NEPA document; (2) solicit from the meeting participants all available information, especially quantifiable data, on the resources at issue; (3) encourage statements from experts and the public on issues that should be analyzed in the NEPA document, including viewpoints in opposition to, or in support of, the staff's preliminary views; (4) determine the resource issues to be addressed in the NEPA document; and (5) identify those issues that require a detailed analysis, as well as those issues that do not require a detailed analysis.

Procedures

The meetings are recorded by a stenographer and become part of the formal record of the Commission proceeding on the project. Individuals, NGOs, Indian Tribes, and agencies with environmental expertise and concerns are encouraged to attend the meeting and to assist the staff in defining and clarifying the issues to be addressed in the NEPA document.

Dated: March 29, 2024.
Debbie-Anne A. Reese,
Acting Secretary.

[FR Doc. 2024-07148 Filed 4-3-24; 8:45 am]

BILLING CODE 6717-01-P